DEPARTMENT OF TRANSPORTATION

Federal Aviation Administration

14 CFR Part 39

[Docket No. 2003-NM-70-AD; Amendment 39-13378; AD 2003-24-09]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 series airplanes, that currently requires performing a general visual inspection to detect chafing or damage of the parallel power feeder cables of the number 2 integrated drive generator (IDG); repairing any chafed cable and damaged structure; and repositioning the parallel power feeder cables of the number 2 IDG. This amendment revises the applicability of the existing AD by adding certain airplanes and removing certain other airplanes. The actions specified by this AD are intended to prevent chafing and arcing of the parallel feeder cables of the number 2 IDG, which could result in smoke and/or fire in the right aft galley area. This action is intended to address the identified unsafe condition.

DATES: Effective January 8, 2004.

The incorporation by reference of Boeing Alert Service Bulletin MD11-24A157, Revision 01, dated March 11, 2003, as listed in the regulations, is approved by the Director of the Federal Register as of January 8, 2004.

The incorporation by reference of McDonnell Douglas Alert Service Bulletin MD11-24A157, dated August 10, 2000, as listed in the regulations, was approved previously by the Director of the Federal Register as of September 26, 2001 (66 FR 44043, August 22, 2001).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2001-17-08, amendment 39-12399 (66 FR 44043, August 22, 2001), which is applicable to certain McDonnell Douglas Model MD-11 series airplanes, was published in the Federal Register on August 15, 2003 (68 FR 48835). The action proposed to continue to require performing a general visual inspection to detect chafing or damage of the parallel power feeder cables of the number 2 integrated drive generator (IDG); repairing any chafed cable and damaged structure; and repositioning the parallel power feeder cables of the number 2 IDG. That action also proposed to revise the applicability of the existing AD by adding certain airplanes and removing certain other airplanes.

Comments

Interested persons have been afforded an opportunity to participate in the making of this amendment. Due consideration has been given to the single comment received.

The commenter supports the proposed rule.

Conclusion

The FAA has determined that air safety and the public interest require the adoption of the rule as proposed.

Cost Impact

There are approximately 85 airplanes of the affected design in the worldwide fleet. The FAA estimates that 15 airplanes of U.S. registry will be affected by this AD.

For Group 1 airplanes listed in Boeing Alert Service Bulletin MD11-24A157, Revision 01, dated March 11, 2003: The actions that are currently required by AD 2001-17-08 take approximately 4 work hours per airplane to accomplish, at an average labor rate of $65 per work hour. Based on these figures, the cost impact of the currently required actions on these U.S. operators is estimated to be $260 per airplane.

For Group 2 airplanes listed in Boeing Alert Service Bulletin MD11-24A157, Revision 01, dated March 11, 2003: The new actions that are required by this AD will take approximately 5 work hours per airplane to accomplish, at an average labor rate of $65 per work hour. Required parts will cost approximately $673 per airplane. Based on these figures, the cost impact of the requirements of this AD on these U.S. operators is estimated to be $998 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12399 (66 FR 44043, August 22, 2001), and by adding a new airworthiness directive (AD), amendment 39-13378, to read as follows:

2003-24-09 McDonnell Douglas: Amendment 39-13378. Docket 2003-NM-70-AD. Supersedes AD 2001-17-08, Amendment 39-12399.

Applicability: Model MD-11 and -11F airplanes, as listed in Boeing Alert Service Bulletin MD11-24A157, Revision 01, dated March 11, 2003; certificated in any category.

Compliance: Required as indicated, unless accomplished previously.

To prevent chafing and arcing of the parallel feeder cables of the number 2 integrated drive generator (IDG), which could result in smoke and/or fire in the right aft galley area, accomplish the following:

Inspection

(a) Do a general visual inspection to detect chafing or damage of the parallel power feeder cables of the number 2 IDG at the applicable time and per the applicable service bulletin specified in Table 1 of this AD. Table 1 is as follows:

Table 1.—Compliance Time/Service Bulletin
Airplanes— | Compliance time— | Service bulletin—
(1) For Group 1 airplanes listed in Boeing Alert Service Bulletin MD11-24A157, Revision 01, dated March 11, 2003 | Within 6 months after September 26, 2001 (the effective date of AD 2001-17-08, amendment 39-12399) | McDonnell Douglas Alert Service Bulletin MD11-24A157, dated August 10, 2000.
(2) For Group 2 airplanes listed in Boeing Alert Service Bulletin MD11-24A157, Revision 01, dated March 11, 2003 | Within 6 months after the effective date of this AD | Boeing Alert Service Bulletin MD11-24A157, Revision 01, dated March 11, 2003.

Note 1: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Condition 1 (No Chafing and No Structure Damage)

(3) If no chafing and damage is detected, before further flight, reposition the parallel power feeder cables of the number 2 IDG, per the applicable service bulletin.

Condition 2 (Chafing or Structure Damage)

(4) If any chafing or damage is detected, before further flight, repair the chafed cable and damaged structure, as applicable, and reposition the parallel power feeder cables of the number 2 IDG, per the applicable service bulletin.

Alternative Methods of Compliance

(b)(1) In accordance with 14 CFR 39.19, the Manager, Los Angeles Aircraft Certification Office, FAA, is authorized to approve alternative methods of compliance for this AD.

(2) Alternative methods of compliance, approved previously per AD 2001-17-08, amendment 39-12399, are approved as alternative methods of compliance with the requirements of this AD.

Incorporation by Reference

(c) The actions shall be done in accordance with McDonnell Douglas Alert Service Bulletin MD11-24A157, dated August 10, 2000; or Boeing Alert Service Bulletin MD11-24A157, Revision 01, dated March 11, 2003; as applicable.

(1) The incorporation by reference of Boeing Alert Service Bulletin MD11-24A157, Revision 01, dated March 11, 2003, is approved by the Director of the Federal Register in accordance with 5 U.S.C. 552(a) and 1 CFR part 51.

(2) The incorporation by reference of McDonnell Douglas Alert Service Bulletin MD11-24A157, dated August 10, 2000, was approved previously by the Director of the Federal Register as of September 26, 2001 (66 FR 44043, August 22, 2001).

(3) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(d) This amendment becomes effective on January 8, 2004.

Issued in Renton, Washington, on November 26, 2003.
Kalene C. Yanamura,
Acting Manager, Transport Airplane Directorate, Aircraft Certification Service.

[FR Doc. 03-30110 Filed 12-3-03; 8:45 am]

BILLING CODE 4910-13-P